DEPARTMENT OF HEALTH AND HUMAN SERVICES

Health Resources and Services Administration

Availability of Funds Announced in the HRSA Preview; Withdrawal

AGENCY: Health Resources and Services Administration.

ACTION: Notice; withdrawal.

SUMMARY: In the Federal Register notice of Friday, July 7, 2000, in Part III “Availability of Funds Announced in the HRSA Preview” of FR Doc. 00-16874, on page 42223, the grant category beginning in the second column under the heading “The Perinatal Systems and Women's Health National Resource Center (CFDA #93.926D),” is withdrawn from competition while the Agency is considering its options regarding the activities proposed for support. After a decision is made, another announcement will be published in the Federal Register.

Prospective applicants who have submitted letters of intent or requested application materials from the HRSA Grants Application Center have been notified directly of this withdrawal.

FOR FURTHER INFORMATION CONTACT: Beverly Wright, Division of Perinatal Systems and Women's Health, Maternal and Child Health Bureau, Health Resources and Services Administration, Room 11A-05, Parklawn Building, 5600 Fishers Lane, Rockville, MD 20857; telephone 1-301-443-8427.

Dated: November 29, 2000.
Claude Earl Fox,
Administrator.

[FR Doc. 00-30826 Filed 12-1-00; 8:45 am]

BILLING CODE 4160-15-P